DEPARTMENT OF THE INTERIOR

National Park Service

[NPS-WASO-NAGPRA-NPS0025562; PPWOCRADN0-PCU00RP14.R50000]

Notice of Intent To Repatriate Cultural Items: Riverside Metropolitan Museum, Riverside, CA

AGENCY: National Park Service, Interior.

ACTION: Notice.

SUMMARY: The Riverside Metropolitan Museum, in consultation with the appropriate Indian Tribes or Native Hawaiian organizations, has determined that the cultural items listed in this notice meet the definition of unassociated funerary objects. Lineal descendants or representatives of any Indian Tribe or Native Hawaiian organization not identified in this notice that wish to claim these cultural items should submit a written request to the Riverside Metropolitan Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Riverside Metropolitan Museum at the address in this notice by July 18, 2018.

ADDRESSES: Robyn G. Peterson, Ph.D., Museum Director, Riverside Metropolitan Museum, 3580 Mission Inn Avenue, Riverside, CA 92501, telephone (951) 826-5792, email rpeterson@riversideca.gov.

SUPPLEMENTARY INFORMATION: Notice is here given in accordance with the Native American Graves Protection and Repatriation Act (NAGPRA), 25 U.S.C. 3005, of the intent to repatriate cultural items under the control of the Riverside Metropolitan Museum, Riverside, CA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1930, Samuel C. Evans purchased a string of shell and stone beads in a cloth bag from Clark's Store, San Diego County, CA. In 1996, a collection of Native American materials (RMM Accn. #A1524) from the estate of Samuel C. Evans was donated to the Riverside Municipal Museum by his son Samuel W. Evans. This donation included the string of shell and stone beads in a cloth bag. The two unassociated funerary objects have been determined to be from the Rincon Band of Luiseño Indians based on cultural and historical evidence. In Kroeber's Ethnography of the Cahuilla Indians (1908), he analyzed beads found in a burial at San Jacinto, describing them as less regular than other specimens. The string of beads in question has the characteristics of traditional Luiseño beads as utilized by the people of the Rincon Band of Luiseño Indians.

Information provided during consultations documented that Clark's store in San Diego County, CA, was within the traditional aboriginal territory of the Rincon Band of Luiseño Indians. The Rincon Band of Luiseño Indians Museum Specialist wrote “The Rincon store was located on the southwest corner of Pala Road (Highway 76) and Valley Center Road and clearly within the traditional territory of the Tribe, and in immediate proximity to its current reservation boundaries. . . . The Tribe has no doubt that the string of bead and the bag are funerary objects and came from the traditional territory of the Rincon Band of Luiseño Indians” (9/19/2017).

Determinations Made by the Riverside Metropolitan Museum

Officials of the Riverside Metropolitan Museum have determined that:

• Pursuant to 25 U.S.C. 3001(3)(B), the two cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Rincon Band of Luiseno Mission Indians of the Rincon Reservation, California.

Additional Requestors and Disposition

Lineal descendants or representatives of any Indian Tribe or Native Hawaiian organization not identified in this notice that wish to claim these cultural items should submit a written request with information in support of the claim to Robyn G. Peterson, Ph.D., Museum Director, Riverside Metropolitan Museum, 3580 Mission Inn Avenue, Riverside, CA 92501, telephone (951) 826-5792, email rpeterson@riversideca.gov, by July 18, 2018. After that date, if no additional claimants have come forward, transfer of control of the unassociated funerary objects to the Rincon Band of Luiseno Mission Indians of the Rincon Reservation, California may proceed.

The Riverside Metropolitan Museum is responsible for notifying the Rincon Band of Luiseno Mission Indians of the Rincon Reservation, California that this notice has been published.

Dated: May 9, 2018.
Melanie O'Brien,
Manager, National NAGPRA Program.

[FR Doc. 2018-13038 Filed 6-15-18; 8:45 am]

BILLING CODE 4312-52-P